DEPARTMENT OF COMMERCE

International Trade Administration

[A-533-809]

Certain Stainless Steel Flanges From India; Final Results of Antidumping Duty Administrative Review

AGENCY: Import Administration, International Trade Administration, Department of Commerce.

SUMMARY: On March 9, 2001, the Department of Commerce (the Department) published in the Federal Register the preliminary results of its administrative review of the antidumping duty order on certain forged stainless steel flanges (flanges) from India (66 FR 14127). The review covers flanges manufactured by Echjay Forgings Ltd. (Echjay), Isibars Ltd. (Isibars), Panchmahal Steel Ltd. (Panchmahal), Patheja Forgings and Auto Parts Ltd. (Patheja), and Viraj Forgings Ltd. (Viraj). The period of review (POR) is February 1, 1999, through January 31, 2000. We gave interested parties an opportunity to comment on the preliminary results. Based on our analysis of the comments received, we have made changes in the margin calculations. Therefore, the final results differ from the preliminary results. The final weighted-average dumping margins for the reviewed firms are listed below in the section entitled “Final Results of Review.”

EFFECTIVE DATE: September 19, 2001.

FOR FURTHER INFORMATION CONTACT: Thomas Killiam or Robert James, AD/CVD Enforcement Group III, Import Administration, International Trade Administration, U.S. Department of Commerce, 14th Street and Constitution Avenue, NW., Washington, DC 20230, telephone: (202) 482-5222 or (202) 482-0649, respectively.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department's regulations are to 19 CFR part 351 (1999).

Background

We invited parties to comment on our preliminary results of review, and we received comments and rebuttals from the petitioner, and from the Coalition Against Indian Flanges, and we received comments from respondents Isibars, Panchmahal, and Viraj.

Scope of Review

The products under review are certain forged stainless steel flanges from India, both finished and not finished, generally manufactured to specification ASTM A-182, and made in alloys such as 304, 304L, 316, and 316L. The scope includes five general types of flanges. They are weld neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the HTSUS. Although the HTSUS subheading is provided for convenience and customs purposes, the written description of the merchandise under review is dispositive of whether or not the merchandise is covered by the review.

Verifications

On November 30 and December 1 and 2, 2000, the Department conducted a verification of the antidumping response submitted by Panchmahal; see the February 15, 2001 memorandum to the file from Thomas Killiam, “Sales Verification of Panchmahal Steel Ltd. (PSL)” (Panchmahal verification report). From December 4 through December 6, 2000, the Department conducted a verification of Viraj; see the February 7, 2001 memorandum to the file from Thomas Killiam, “Sales Verification of Viraj Forgings” (Viraj verification report). Both companies submitted data corrections at verification.

Use of Facts Available

At the verification of Panchmahal, we discovered that sales reported as domestic were actually clearly labeled as export (see Panchmahal verification report at 9-10). Removing these sales from Panchmahal's home market reduced its home market volume to less than 5% of U.S. sales, thus making the home market not viable per section 351.404(b)(2) of the Department's regulations. For the preliminary results, we used constructed value for Panchmahal's normal value. However, for these final results, we have reconsidered our preliminary determination and, based on our findings at verification and petitioner's arguments in its case brief, we have determined that application of adverse facts available is appropriate. See Memorandum from Joseph A. Spetrini, Deputy Assistant Secretary, Enforcement Group III, to Faryar Shirzad, Assistant Secretary for Import Administration, “Issues and Decisions Memorandum for the Final Results in the Antidumping Duty Administrative Review of Certain Forged Stainless Steel Flanges from India (Flanges) from India” (Decision Memo) dated concurrently with this notice.

As in the preliminary results, and for the reasons stated therein, we have continued to assign to Patheja the rate of 210%, based on adverse facts available.

Analysis of Comments Received

We received no briefs on Echjay, and made no changes in our analysis. Isibars, Panchmahal and Viraj submitted briefs, and Viraj gave a rebuttal brief. Petitioners submitted briefs on Panchmahal and Viraj, and rebuttal briefs to these two companies' briefs and also to Isibars' brief. The issues raised in the case and rebuttal briefs by parties to this administrative review are addressed in the “Issues and Decision Memorandum” (“Decision Memo”) from Joseph A. Spetrini, Deputy Assistant Secretary, Important Administration, to Faryar Shirzad, Assistant Secretary for Import Administration, dated concurrently with this notice, which is hereby adopted by this notice. A list of the issues which parties have raised and to which we have responded, all of which are in the Decision Memorandum, is attached to this notice as an Appendix. Parties can find a complete discussion of all issues raised in this review and the corresponding recommendations in this public memorandum which is on file in the Central Record Unit, room B-099 of the main Department of Commerce building. In addition, a complete version of the Decision Memorandum can be accessed directly on the International Trade Administration's Web site at www.ia.ita.doc.gov. The paper copy and electronic version of the Decision Memorandum are identical in content.

Changes Since the Preliminary Results

Based on our verification and analysis of the comments received, we have changed our approach to the margin calculation for Panchmahal and Isibars. See the Decision Memo.

Final Results of the Review

We determine that the following percentage weighted-average margins exists for the period February 1, 1999, through January 31, 2000:

Certain Forged Stainless Steel Flanges From India
Producer/manufacturer/exporter | Weighted- average margin (percent)
Echjay | 0
Isibars | 6.76
Panchmahal | 61.31
Patheja | 210.00
Viraj | 21.10

Where applicable we calculated import-specific duty assessment rates in accordance with 19 CFR 351.212(b). The Department will issue appraisement instructions directly to the Customs Service to assess antidumping duties on appropriate entries, by applying the assessment rate to the entered value of the merchandise.

In addition, the following deposit requirements will be effective upon publication of this notice for all shipments of stainless steel flanges from India entered, or withdrawn from warehouse, for consumption on or after the date of publication, as provided by section 751(a)(1) of the Act: (1) For the companies reviewed, the cash deposit rates will be the rates listed above, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 162.14 percent, the all others rate established in the less-than-fair-value investigation. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also serves as the only reminder to parties subject to administrative protective order (“APO”) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Act, and 19 CFR 351.214.

September 5, 2001.
Richard W. Moreland,
Acting Assistant Secretary for Import Administration.

Appendix—Issues in Decision Memorandum

Comments

Isibars: Petitioners object to Isibars' sales data revisions; Isibars objects to the use of constructed value instead of third country sales; Isibars objects to the Department's surrogate company choice; Isibars objects to the financial results period used for surrogate expense data; Isibars claims it did not get service of Echjay's published annual reports;

Panchmahal: Petitioners claim Panchmahal's misreported sales merit adverse facts available; Petitioners urge a more adverse approach to Constructed Value (moot); Petitioners urge a more adverse approach to Brokerage and Handling (moot); Panchmahal objects to the expense ratios from a surrogate company (moot);

Viraj: Petitioners claim Viraj improperly reported duty drawback; Petitioners claim fixed overhead was understated; Petitioners claim net interest expense was understated; Viraj asks that prices and costs be calculated per-piece, not per-kilogram; Viraj argues that the DIFMER Test and Per-Kilogram Costs distort results; Viraj objects to comparisons of rough to finished flanges; Viraj objects to the comparison of ASTM to DIN standard merchandise; Viraj objects to the use of its reported weights instead of its standard weights.

[FR Doc. 01-23330 Filed 9-18-01; 8:45 am]

BILLING CODE 3510-DS-P